DEPARTMENT OF THE INTERIOR

National Park Service

[NPS-WASO-NRNHL-13732; PPWOCRADI0, PCU00RP14.R50000]

National Register of Historic Places; Notification of Pending Nominations and Related Actions

Nominations for the following properties being considered for listing or related actions in the National Register were received by the National Park Service before August 3, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by September 10, 2013. Before including your address, phone number, email address, or other personal identifying information in your comment, you should be aware that your entire comment—including your personal identifying information—may be made publicly available at any time. While you can ask us in your comment to withhold your personal identifying information from public review, we cannot guarantee that we will be able to do so.

Dated: August 7, 2013.
Alexandra Lord,
Acting Chief, National Register of Historic Places/National Historic Landmarks Program.

DISTRICT OF COLUMBIA

District of Columbia

Grace Evangelical Lutheran Church, 4300 16th St., NW., Washington, 13000712

U.S. Civil Service Commission Building, 1724 F St., NW., Washington, 13000713

ILLINOIS

Cook County

Drucker, Robert and Suzanne, House, 2801 Iroquois Rd., Wilmette, 13000715

Du Page County

Glen Ellyn Downtown North Historic District, Roughly Main St., Crescent Blvd., & Pennsylvania Ave., Glen Ellyn, 13000716

Glen Ellyn Downtown South Historic District, Roughly Main & Duane Sts., Hillside Ave., Glen Ellyn, 13000717

La Salle County

Ottawa East Side Historic District, Roughly between the Illinois & Fox Rivers, Shabbona & Green Sts., Ottawa, 13000718

Will County

Beecher Mausoleum, Jct. of IL 1 & Horner Ln., Beecher, 13000714

Downtown Plainfield Historic District, Lockport bounded by Division & Main Sts., Plainfield, 13000719

INDIANA

Allen County

Wildwood Park Historic District, (Park and Boulevard System of Fort Wayne, Indiana MPS) Roughly bounded by Freeman St., Illinois Rd., W. Jefferson & Portage Blvds., Lindenwood & Ardmore Aves., Fort Wayne, 13000720

Daviess County

McCall Farmstead, 4914 E. 800 N., Plainville, 13000721

Lake County

Horace Mann Historic District, (Historic Residential Suburbs in the United States, 1830-1960 MPS) Roughly bounded by W. 5th, 8th & 7th Aves., Cleveland & Roosevelt Sts., gary, 13000722

Jefferson Street Historic District, (Historic Residential Suburbs in the United States, 1830-1960 MPS) Roughly bounded by Washington St., 37th, 35th, Jefferson & Madison Aves., Gary, 13000723

Marion County

Oaklandon Historic District, 6300 & 6400 blks. Oaklandon Rd., 6400 blk. Maple & 11716 Oshawa Sts., Lawrence, 13000724

Monroe County

Matthews Stone Company Historic District, 6293 N. Matthews Dr., 6445 W. Maple Grove Rd., Ellettsville, 13000725

St. Joseph County

Marquette School, (Indiana's Public Common and High Schools MPS) 1905 College Ave., South Bend, 13000726

West LaSalle Avenue Historic District, W. LaSalle Ave. between William St. & Martin Luther King Dr., South Bend, 13000727

KANSAS

Grant County

Lower Cimarron Spring (Boundary Increase), (Santa Fe Trail MPS) W. side of US 270, Ulysses, 13000728

LOUISIANA

Caddo Parish

Fairfield Building, The, 1600-1612 Fairfield Ave., Shreveport, 13000729

Petroleum Tower, 425 Edwards St., Shreveport, 13000730

Madison Parish

Tallulah Post Office, 606 Snyder St., Tallulah, 13000731

Orleans Parish

Frey, L.A. and Sons, Meatpacking Plant, 3925 Burgundy St., New Orleans, 13000732

Rapides Parish

Boyce Methodist Church, 309 Londonderry Ave., Boyce, 13000733

MISSISSIPPI

Bolivar County

Mound Bayou Historic District, Roughly bounded by Martin Luther King Ave., Mound Bayou Cemetery, South & Davis Sts., Mound Bayou, 13000735

De Soto County

Hernando Water Tower, NE. corner of Losher & Church Sts., Hernando, 13000736

Hinds County

Evers, Medgar, Historic District, Roughly Margaret Walker Alexander St., W. of Missouri & E. of Miami Sts., Jackson, 13000737

Tanglewood, 301 Jefferson St., Clinton, 13000738

Jackson County

Orange Avenue Historic District (Boundary Increase), (Pascagoula MPS) 600 & 700 blk. of Live Oak St., Pascagoula, 13000739

Leflore County

Wildwood Plantation Commissary and Shop, Cty. Rd. 626, Money, 13000734

PENNSYLVANIA

Allegheny County

Allegheny Commons, Roughly bounded by Stockton St., Brighton Rd., North, Cedar & Ridge Aves., Pittsburgh, 13000740

Mooncrest Historic District, Roughly bounded by University Blvd., Lee Dr., Thorn Run, Fern Hollow & Old Thorn Run Rds. (Moon Township), Coraopolis, 13000741

Bradford County

Universalist Meeting House of Sheshequin, 6752 Sheshequin Rd. (Sheshequin Township), Sheshequin, 13000742

Carbon County

Palmerton Historic District, Roughly bounded by Ave. A, Harvard Ave., 8th & Tomb Sts., Palmerton, 13000743

Philadelphia County

McDowell Memorial Presbyterian Church, 2040 Cecil B. Moore Ave., Philadelphia, 13000744

Sullivan County

Eagles Mere Historic District (Boundary Increase), Roughly bounded by PA 42, Borough boundary, Loyalsock State Forest & Eagles Mere Golf Club, Eagles Mere Borough, 13000745

Tioga County

Blackwell Methodist Episcopal Church, 117 Blackwell Sq. (Morris Township), Blackwell, 13000746

TENNESSEE

Macon County

Red Boiling Springs Bank, 100 Main St., Red Boiling Springs, 13000747

WASHINGTON

Skamania County Lawetlat'la, Gifford Pinchot NF, Cougar, 13000748

WISCONSIN

Clark County

Cornelius, Charles and Theresa, House, 118 Clay St., Neillsville, 13000749

Milwaukee County

Cudahy Chicago and North Western Railway Depot, 4647 S. Kinnickinnic Ave., Cudahy, 13000750

Waukesha County

Schauwitzer, Carl and Therese, House, S84 W17698 Woods Rd., Muskego, 13000751

[FR Doc. 2013-20667 Filed 8-23-13; 8:45 am]

BILLING CODE 4312-51-P